DEPARTMENT OF ENERGY

Federal Energy Regulatory Commission

Combined Notice of Filings

Take notice that the Commission has received the following Natural Gas Pipeline Rate and Refund Report filings:

Filings Instituting Proceedings

Docket Numbers: RP15-668-000.

Applicants: Natural Gas Pipeline Company of America.

Description: Penalty Revenue Crediting Report of Natural Gas Pipeline Company of America LLC.

Filed Date: 3/20/15.

Accession Number: 20150320-5268.

Comments Due: 5 p.m. ET 4/1/15.

Docket Numbers: RP15-669-000.

Applicants: Ozark Gas Transmission, L.L.C.

Description: Section 4(d) rate filing per 154.204: OGT March 2015 Cleanup Filing to be effective 4/24/2015.

Filed Date: 3/23/15.

Accession Number: 20150323-5109.

Comments Due: 5 p.m. ET 4/6/15.

Docket Numbers: RP15-671-000.

Applicants: Enable Gas Transmission, LLC.

Description: Annual Revenue Crediting Filing of Enable Gas Transmission, LLC.

Filed Date: 3/23/15.

Accession Number: 20150323-5217.

Comments Due: 5 p.m. ET 4/6/15.

Docket Numbers: RP15-672-000.

Applicants: Natural Gas Pipeline Company of America.

Description: Section 4(d) rate filing per 154.204: Nicor's Amendment to be effective 4/1/2015.

Filed Date: 3/23/15.

Accession Number: 20150323-5251.

Comments Due: 5 p.m. ET 4/6/15.

Docket Numbers: RP15-673-000.

Applicants: Equitrans, L.P.

Description: Section 4(d) rate filing per 154.204: Update LPS and LPS Form of Service Agreements to be effective 4/23/2015.

Filed Date: 3/23/15.

Accession Number: 20150323-5292.

Comments Due: 5 p.m. ET 4/6/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 24, 2015.
Nathaniel J. Davis, Sr.,
Deputy Secretary.

[FR Doc. 2015-07531 Filed 4-1-15; 8:45 am]

BILLING CODE CODE 6717-01-P